DEPARTMENT OF TRANSPORTATION

Coast Guard

33 CFR Part 165

[CGD09-02-004]

RIN 2115-AA97

Security Zones; Captain of the Port Detroit Zone, Selfridge Air National Guard Base, Lake St. Clair

AGENCY: Coast Guard, DOT.

ACTION: Final rule; correction.

SUMMARY: The Coast Guard published a final rule on June 7, 2002, creating a permanent security zone on the navigable waters of Lake St. Clair to protect the Selfridge Air National Guard Base from possible acts of terrorism. The location of the security zone designated by some of the coordinates in that rule was incorrect. This document corrects the description of the location and the section number of the security zone.

DATES: This correction becomes effective July 18, 2002.

FOR FURTHER INFORMATION CONTACT: LTJG Brandon Sullivan, U.S. Coast Guard Marine Safety Office Detroit, at (313) 568-9580.

SUPPLEMENTARY INFORMATION:

Background and Purpose

The Coast Guard published a permanent security zone in the Federal Register on June 7, 2002 (67 FR 39294). This rule added § 165.908 to title 33 of the Code of Federal Regulations.

Need for Correction

As published, the location of the security zone was described incorrectly. While the landmarks included in the final rule were correct, some of the coordinates were incorrect. In addition, the section number used in the amendatory instruction for the rule was incorrect. This rule corrects the coordinates and section number.

Correction of Publication

In rule FR Doc. 02-14268 published on June 7, 2002 (67 FR 39294) make the following corrections:

1. On page 39294, in the third column, on line 65, remove both latitude figures “42°37.8′ N” and add, in their respective places, latitude figure “42°37.7′ N”.

2. On page 39295, in the first column, on lines 2 and 3, remove the coordinates and words “42°36.8′ N, 082°47.2′ W; then southwest to 42°36.4′ N, 082°47.9′ W” and add, in their place, the coordinates and words “42°37.05′ N, 082°48.3′ W; then southwest to 42°36.6′ N, 082°48.7′ W”.

§ 165.908 [Corrected]

3. On page 39296, in the first column, in lines 3 and 4, remove both latitude figures “42°37.8′ N” and add, in their respective places, latitude figure “42°37.7′ N”. On the same page and in the same column, in lines 7 through 9, remove the coordinates and words “42°36.8′ N, 082°47.2′ W; then southwest to 42°36.4′ N, 082°47.9′ W” and add, in their place, the coordinates and words “42°37.05′ N, 082°48.3′ W; then southwest to 42°36.6′ N, 082°48.7′ W”.

4. On page 39295, in the third column, on line 56, remove section number “165.910” and add, in its place, section number “165.908”.

Dated: July 9, 2002.
P.G. Gerrity,
Commander, Coast Guard, Captain of the Port Detroit.

[FR Doc. 02-18011 Filed 7-17-02; 8:45 am]

BILLING CODE 4910-15-P